DEPARTMENT OF ENERGY

Federal Energy Regulatory Commission

Combined Notice of Filings #1

Take notice that the Commission received the following electric corporate filings:

Docket Numbers: EC18-69-000.

Applicants: HIKO Energy, LLC.

Description: Application for Authorization Under Section 203 of the Federal Power Act and Requests for Waiver of Filing Requirements and Confidential Treatment of HIKO Energy, LLC.

Filed Date: 3/13/18.

Accession Number: 20180313-5213.

Comments Due: 5 p.m. ET 4/3/18.

Take notice that the Commission received the following electric rate filings:

Docket Numbers: ER18-1006-000.

Applicants: AEP Texas Inc.

Description: § 205(d) Rate Filing: AEPTX-Central Texas Electric Co-op Interconnection Agreement to be effective 2/21/2018.

Filed Date: 3/13/18.

Accession Number: 20180313-5166.

Comments Due: 5 p.m. ET 4/3/18.

Docket Numbers: ER18-1009-000.

Applicants: PJM Interconnection, L.L.C.

Description: § 205(d) Rate Filing: Third Revised ISA, SA No. 3808, Queue No. AC1-134 to be effective 2/13/2018.

Filed Date: 3/14/18.

Accession Number: 20180314-5040.

Comments Due: 5 p.m. ET 4/4/18.

Docket Numbers: ER18-1013-000.

Applicants: Southwest Power Pool, Inc.

Description: § 205(d) Rate Filing: 2632R1 MKEC, Westar Energy and KG&E Interconnection Agr to be effective 12/31/9998.

Filed Date: 3/14/18.

Accession Number: 20180314-5083.

Comments Due: 5 p.m. ET 4/4/18.

Docket Numbers: ER18-1015-000.

Applicants: Atlantic Renewable Projects II LLC.

Description: Compliance filing: Compliance 2018 to be effective 5/14/2018.

Filed Date: 3/14/18.

Accession Number: 20180314-5096.

Comments Due: 5 p.m. ET 4/4/18.

Docket Numbers: ER18-1016-000.

Applicants: Avangrid Arizona Renewables, LLC.

Description: Compliance filing: Compliance 2018 to be effective 5/14/2018.

Filed Date: 3/14/18.

Accession Number: 20180314-5097.

Comments Due: 5 p.m. ET 4/4/18.

Docket Numbers: ER18-1017-000.

Applicants: Avangrid Renewables, LLC.

Description: Compliance filing: Compliance 2018 to be effective 5/14/2018.

Filed Date: 3/14/18.

Accession Number: 20180314-5098.

Comments Due: 5 p.m. ET 4/4/18.

Docket Numbers: ER18-1018-000.

Applicants: Barton Windpower LLC.

Description: Compliance filing: Compliance 2018 to be effective 5/14/2018.

Filed Date: 3/14/18.

Accession Number: 20180314-5100.

Comments Due: 5 p.m. ET 4/4/18.

Docket Numbers: ER18-1019-000.

Applicants: Big Horn II Wind Project LLC.

Description: Compliance filing: Compliance 2018 to be effective 5/14/2018.

Filed Date: 3/14/18.

Accession Number: 20180314-5101.

Comments Due: 5 p.m. ET 4/4/18.

Docket Numbers: ER18-1020-000.

Applicants: Big Horn Wind Project LLC.

Description: Compliance filing: Compliance 2018 to be effective 5/14/2018.

Filed Date: 3/14/18.

Accession Number: 20180314-5102.

Comments Due: 5 p.m. ET 4/4/18.

Docket Numbers: ER18-1021-000.

Applicants: Blue Creek Wind Farm LLC.

Description: Compliance filing: Compliance 2018 to be effective 5/14/2018.

Filed Date: 3/14/18.

Accession Number: 20180314-5103.

Comments Due: 5 p.m. ET 4/4/18.

Docket Numbers: ER18-1022-000.

Applicants: Buffalo Ridge I LLC.

Description: Compliance filing: Compliance 2018 to be effective 5/14/2018.

Filed Date: 3/14/18.

Accession Number: 20180314-5106.

Comments Due: 5 p.m. ET 4/4/18.

Docket Numbers: ER18-1023-000.

Applicants: Buffalo Ridge II LLC.

Description: Compliance filing: Compliance 2018 to be effective 5/14/2018.

Filed Date: 3/14/18.

Accession Number: 20180314-5107.

Comments Due: 5 p.m. ET 4/4/18.

Docket Numbers: ER18-1024-000.

Applicants: Colorado Green Holdings LLC.

Description: Compliance filing: Compliance 2018 to be effective 5/14/2018.

Filed Date: 3/14/18.

Accession Number: 20180314-5109.

Comments Due: 5 p.m. ET 4/4/18.

Docket Numbers: ER18-1027-000.

Applicants: Dillon Wind LLC.

Description: Compliance filing: Compliance 2018 to be effective 5/14/2018.

Filed Date: 3/14/18.

Accession Number: 20180314-5111.

Comments Due: 5 p.m. ET 4/4/18.

Docket Numbers: ER18-1028-000.

Applicants: Elm Creek Wind, LLC.

Description: Compliance filing: Compliance 2018 to be effective 5/14/2018.

Filed Date: 3/14/18.

Accession Number: 20180314-5114.

Comments Due: 5 p.m. ET 4/4/18.

Docket Numbers: ER18-1030-000.

Applicants: Elm Creek Wind II LLC.

Description: Compliance filing: Compliance 2018 to be effective 5/14/2018.

Filed Date: 3/14/18.

Accession Number: 20180314-5116.

Comments Due: 5 p.m. ET 4/4/18.

Docket Numbers: ER18-1032-000.

Applicants: Farmers City Wind, LLC.

Description: Compliance filing: Compliance 2018 to be effective 5/14/2018.

Filed Date: 3/14/18.

Accession Number: 20180314-5118.

Comments Due: 5 p.m. ET 4/4/18.

Docket Numbers: ER18-1034-000.

Applicants: Flying Cloud Power Partners, LLC.

Description: Compliance filing: Compliance 2018 to be effective 5/14/2018.

Filed Date: 3/14/18.

Accession Number: 20180314-5120.

Comments Due: 5 p.m. ET 4/4/18.

Docket Numbers: ER18-1035-000.

Applicants: Groton Wind, LLC.

Description: Compliance filing: Compliance 2018 to be effective 5/14/2018.

Filed Date: 3/14/18.

Accession Number: 20180314-5121.

Comments Due: 5 p.m. ET 4/4/18.

Docket Numbers: ER18-1036-000.

Applicants: Hardscrabble Wind Power LLC.

Description: Compliance filing: Compliance 2018 to be effective 5/14/2018.

Filed Date: 3/14/18.

Accession Number: 20180314-5122.

Comments Due: 5 p.m. ET 4/4/18.

Docket Numbers: ER18-1038-000.

Applicants: Hay Canyon Wind LLC.

Description: Compliance filing: Compliance 2018 to be effective 5/14/2018.

Filed Date: 3/14/18.

Accession Number: 20180314-5124.

Comments Due: 5 p.m. ET 4/4/18.

Docket Numbers: ER18-1039-000.

Applicants: Juniper Canyon Wind Power LLC.

Description: Compliance filing: Compliance 2018 to be effective 5/14/2018.

Filed Date: 3/14/18.

Accession Number: 20180314-5127.

Comments Due: 5 p.m. ET 4/4/18.

Docket Numbers: ER18-1040-000.

Applicants: Klamath Energy LLC.

Description: Compliance filing: Compliance 2018 to be effective 5/14/2018.

Filed Date: 3/14/18.

Accession Number: 20180314-5129.

Comments Due: 5 p.m. ET 4/4/18.

Docket Numbers: ER18-1041-000.

Applicants: Klamath Generation LLC.

Description: Compliance filing: Compliance 2018 to be effective 5/14/2018.

Filed Date: 3/14/18.

Accession Number: 20180314-5130.

Comments Due: 5 p.m. ET 4/4/18.

Docket Numbers: ER18-1042-000.

Applicants: Klondike Wind Power LLC.

Description: Compliance filing: Compliance 2018 to be effective 5/14/2018.

Filed Date: 3/14/18.

Accession Number: 20180314-5132.

Comments Due: 5 p.m. ET 4/4/18.

Docket Numbers: ER18-1043-000.

Applicants: Klondike Wind Power II LLC.

Description: Compliance filing: Compliance 2018 to be effective 5/14/2018.

Filed Date: 3/14/18.

Accession Number: 20180314-5133.

Comments Due: 5 p.m. ET 4/4/18.

Docket Numbers: ER18-1044-000.

Applicants: Klondike Wind Power III LLC.

Description: Compliance filing: Compliance 2018 to be effective 5/14/2018.

Filed Date: 3/14/18.

Accession Number: 20180314-5134.

Comments Due: 5 p.m. ET 4/4/18.

Docket Numbers: ER18-1045-000.

Applicants: Leaning Juniper Wind Power II LLC.

Description: Compliance filing: Compliance 2018 to be effective 5/14/2018.

Filed Date: 3/14/18.

Accession Number: 20180314-5135.

Comments Due: 5 p.m. ET 4/4/18.

Docket Numbers: ER18-1046-000.

Applicants: Lempster Wind, LLC.

Description: Compliance filing: Compliance 2018 to be effective 5/14/2018.

Filed Date: 3/14/18.

Accession Number: 20180314-5136.

Comments Due: 5 p.m. ET 4/4/18.

Docket Numbers: ER18-1047-000.

Applicants: Locust Ridge Wind Farm, LLC.

Description: Compliance filing: Compliance 2018 to be effective 5/14/2018.

Filed Date: 3/14/18.

Accession Number: 20180314-5137.

Comments Due: 5 p.m. ET 4/4/18.

Docket Numbers: ER18-1048-000.

Applicants: Locust Ridge II, LLC.

Description: Compliance filing: Compliance 2018 to be effective 5/14/2018.

Filed Date: 3/14/18.

Accession Number: 20180314-5139.

Comments Due: 5 p.m. ET 4/4/18.

Docket Numbers: ER18-1049-000.

Applicants: Manzana Wind LLC.

Description: Compliance filing: Compliance 2018 to be effective 5/14/2018.

Filed Date: 3/14/18.

Accession Number: 20180314-5142.

Comments Due: 5 p.m. ET 4/4/18.

Docket Numbers: ER18-1050-000.

Applicants: Moraine Wind LLC.

Description: Compliance filing: Compliance 2018 to be effective 5/14/2018.

Filed Date: 3/14/18.

Accession Number: 20180314-5144.

Comments Due: 5 p.m. ET 4/4/18.

Docket Numbers: ER18-1051-000.

Applicants: Mountain View Power Partners III, LLC.

Description: Compliance filing: Compliance 2018 to be effective 5/14/2018.

Filed Date: 3/14/18.

Accession Number: 20180314-5145.

Comments Due: 5 p.m. ET 4/4/18.

Docket Numbers: ER18-1052-000.

Applicants: New England Wind, LLC.

Description: Compliance filing: Compliance 2018 to be effective 5/14/2018.

Filed Date: 3/14/18.

Accession Number: 20180314-5146.

Comments Due: 5 p.m. ET 4/4/18.

Docket Numbers: ER18-1053-000.

Applicants: New Harvest Wind Project LLC.

Description: Compliance filing: Compliance 2018 to be effective 5/14/2018.

Filed Date: 3/14/18.

Accession Number: 20180314-5147.

Comments Due: 5 p.m. ET 4/4/18.

Docket Numbers: ER18-1054-000.

Applicants: Northern Iowa Windpower II LLC.

Description: Compliance filing: Compliance 2018 to be effective 5/14/2018.

Filed Date: 3/14/18.

Accession Number: 20180314-5150.

Comments Due: 5 p.m. ET 4/4/18.

Docket Numbers: ER18-1055-000.

Applicants: Pebble Springs Wind LLC.

Description: Compliance filing: Compliance 2018 to be effective 5/14/2018.

Filed Date: 3/14/18.

Accession Number: 20180314-5155.

Comments Due: 5 p.m. ET 4/4/18.

Docket Numbers: ER18-1056-000.

Applicants: Providence Heights Wind, LLC.

Description: Compliance filing: Compliance 2018 to be effective 5/14/2018.

Filed Date: 3/14/18.

Accession Number: 20180314-5159.

Comments Due: 5 p.m. ET 4/4/18.

Docket Numbers: ER18-1057-000.

Applicants: Rugby Wind LLC.

Description: Compliance filing: Compliance 2018 to be effective 5/14/2018.

Filed Date: 3/14/18.

Accession Number: 20180314-5161.

Comments Due: 5 p.m. ET 4/4/18.

Docket Numbers: ER18-1058-000.

Applicants: San Luis Solar LLC.

Description: Compliance filing: Compliance 2018 to be effective 5/14/2018.

Filed Date: 3/14/18.

Accession Number: 20180314-5162.

Comments Due: 5 p.m. ET 4/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 14, 2018.
Kimberly D. Bose,
Secretary.

[FR Doc. 2018-05619 Filed 3-19-18; 8:45 am]

BILLING CODE 6717-01-P